DEPARTMENT OF ENERGY

Federal Energy Regulatory Commission

[Docket Nos. CP06-354-000, CP06-401-000, CP06-423-000]

Rockies Express Pipeline, LLC, TransColorado Gas Transmission Company, Questar Overthrust Pipeline Company; Notice of Comment Meeting

November 16, 2006.

On December 11-15, 2006, the Federal Energy Regulatory Commission staff will conduct public comment meetings for the purpose of hearing comments on the draft environmental impact statement (draft EIS) for the Rockies Western Phase Project which was issued on November 3, 2006 and which you should have received. The Rockies Western Phase Project would involve the construction and operation of natural gas facilities as proposed and described in the above-referenced dockets in the states of New Mexico, Colorado, Wyoming, Nebraska, Kansas, and Missouri and would include:

• The REX-West Project proposed by Rockies Express Pipeline LLC;

• The Blanco to Meeker Project proposed by TransColorado Gas Transmission Company; and

• The Wamsutter Expansion Project proposed by Questar Overthrust Pipeline Company.

All five draft EIS comment meetings will begin at 7 p.m. (local time), and are scheduled as follows:

Date | Location
Monday, December 11, 2006 | Holiday Inn, 664 Chase Blvd., Sidney, NE 69162, (308) 254-2000.
Tuesday, December 12, 2006 | Quality Inn Sandhills, 2102 S. Jeffers, North Platte, NE 69101, (308) 532-9090.
Wednesday, December 13, 2006 | Holiday Inn Express, 4005 N. 6th St., Beatrice, NE 68310, (402) 228-7000
Thursday, December 14, 2006 | Best Western Inn, 1200 Hwy 24 E., Moberly, MO 65270, (660) 263-6540.
Friday, December 15, 2006 | Pony Express National Museum, 914 Penn St., St. Joseph, MO 64503, (816) 279-5059.

These meetings will be posted on the Federal Energy Regulatory Commission's calendar located at http://www.ferc.gov/EventCalendar/EventsList.aspx. Additional information about the project and the comment meetings is available from the Commission's Office of External Affairs, at 1-866-208-FERC.

Magalie R. Salas,
Secretary.

[FR Doc. E6-19937 Filed 11-24-06; 8:45 am]

BILLING CODE 6717-01-P